DEPARTMENT OF HOMELAND SECURITY

Federal Emergency Management Agency

[Docket ID FEMA-2016-0002; Internal Agency Docket No. FEMA-B-1665]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: December 21, 2016.
Roy E. Wright,
Deputy Associate Administrator for Insurance and Mitigation, Department of Homeland Security, Federal Emergency Management Agency.

State and county | Location and case No. | Chief executive officer of community | Community map repository | Online location of letter of map revision | Effective date of modification | Community No.
Arkansas:
Crawford | City of Van Buren (16-06-1669P) | The Honorable Bob Freeman, Mayor, City of Van Buren, 1003 Broadway Street, Van Buren, AR 72956 | Public Works Department, 1003 Broadway Street, Van Buren, AR 72956 | http://www.msc.fema.gov/lomc | Jan. 26, 2017 | 050053
Crawford | Unincorporated areas of Crawford County (16-06-1669P) | The Honorable John Hall, Crawford County Judge, 300 Main Street, Room 4, Van Buren, AR 72956 | Crawford County Department of Emergency Management, 1820 Chestnut Street, Van Buren, AR 72956 | http://www.msc.fema.gov/lomc | Jan. 26, 2017 | 050428
Colorado:
Adams | City of Thornton (16-08-0136P) | The Honorable Heidi Williams, Mayor, City of Thornton, 9500 Civic Center Drive, Thornton, CO 80229 | Engineering Services Division, 12450 Washington Street, Thornton, CO 80241 | http://www.msc.fema.gov/lomc | Feb. 10, 2017 | 080007
Adams | City of Westminster (16-08-0417P) | The Honorable Herb Atchison, Mayor, City of Westminster, 4800 West 92nd Avenue, Westminster, CO 80031 | Engineering Division, 4800 West 92nd Avenue, Westminster, CO 80031 | http://www.msc.fema.gov/lomc | Feb. 10, 2017 | 080008
Adams | Unincorporated areas of Adams County (16-08-0136P) | The Honorable Steve O'Dorisio, Chairman, Adams County Board of Commissioners, 4430 South Adams County Parkway, Brighton, CO 80601 | Adams County Development and Engineering Services Department, 4430 South Adams County Parkway, Brighton, CO 80601 | http://www.msc.fema.gov/lomc | Feb. 10, 2017 | 080001
El Paso | City of Colorado Springs (16-08-0694P) | The Honorable John Suthers, Mayor, City of Colorado Springs, 30 South Nevada Avenue, Colorado Springs, CO, 80903 | Pikes Peak Regional Building, 2880 International Circle, Colorado Springs, CO, 80903 | http://www.msc.fema.gov/lomc | Feb. 22, 2017 | 080060
Jefferson | City of Westminster (16-08-0792P) | The Honorable Herb Atchison, Mayor, City of Westminster, 4800 West 92nd Avenue, Westminster, CO 80031 | Engineering Division, 4800 West 92nd Avenue, Westminster, CO 80031 | http://www.msc.fema.gov/lomc | Feb. 17, 2017 | 080008
Delaware: New Castle | Unincorporated areas of New Castle County (16-03-2184P) | The Honorable Thomas Gordon, New Castle County Executive, 87 Reads Way, New Castle, DE 19720 | New Castle County Department of Land Use, 87 Reads Way, New Castle, DE 19720 | http://www.msc.fema.gov/lomc | Jan. 30, 2017 | 105085
Florida:
Lake | City of Groveland (16-04-3023P) | The Honorable Tim Loucks, Mayor, City of Groveland, 156 South Lake Avenue, Groveland, FL 34736 | City Hall, 156 South Lake Avenue, Groveland, FL 34736 | http://www.msc.fema.gov/lomc | Feb. 3, 2017 | 120135
Lake | Unincorporated areas of Lake County (16-04-3023P) | The Honorable Sean Parks, Chairman, Lake County Board of Commissioners, 315 West Main Street, Tavares, FL 32778 | Lake County Public Works Department, 323 North Sinclair Avenue, Tavares, FL 32778 | http://www.msc.fema.gov/lomc | Feb. 3, 2017 | 120421
Manatee | City of Bradenton Beach (16-04-5422P) | The Honorable William Shearon, Mayor, City of Bradenton Beach, 107 Gulf Drive North, Bradenton Beach, FL 34217 | Public Works, Planning and Development Department, 107 Gulf Drive North, Bradenton Beach, FL 34217 | http://www.msc.fema.gov/lomc | Mar. 1, 2017 | 125091
Osceola | Unincorporated areas of Osceola County (16-04-5214P) | The Honorable Viviana Janer, Chair, Osceola County Board of Commissioners, 1 Courthouse Square, Suite 4700, Kissimmee, FL 34741 | Osceola County Development Review Department, 1 Courthouse Square, Suite 1400, Kissimmee, FL 34741 | http://www.msc.fema.gov/lomc | Feb. 10, 2017 | 120189
St. Johns | Unincorporated areas of St. Johns County (16-04-4101P) | The Honorable Jeb Smith, Chairman, St. Johns County Board of Commissioners, 500 San Sebastian View, St. Augustine, FL 32084 | St. Johns County Building Services Division, 4040 Lewis Speedway, St. Augustine, FL 32084 | http://www.msc.fema.gov/lomc | Jan. 31, 2017 | 125147
Seminole | City of Oviedo (16-04-3084P) | The Honorable Dominic Persampiere, Mayor, City of Oviedo, 400 Alexandria Boulevard, Oviedo, FL 32765 | Engineering Department, 400 Alexandria Boulevard, Oviedo, FL 32765 | http://www.msc.fema.gov/lomc | Feb. 8, 2017 | 120293
Seminole | Unincorporated areas of Seminole, County (16-04-3084P) | The Honorable John Huran, Chairman, Seminole County Board of Commissioners, 1101 East 1st Street, Sanford, FL 32771 | Seminole County Development Review Division, 1101 East 1st Street, Sanford, FL 32771 | http://www.msc.fema.gov/lomc | Feb. 8, 2017 | 120289
Massachusetts:
Barnstable | Town of Sandwich (16-01-1204P) | The Honorable Susan James, Chair, Town of Sandwich Board of Selectmen, 130 Main Street, Sandwich, MA 02563 | Building Department, 16 Jan Sebastian Drive, Sandwich, MA 02563 | http://www.msc.fema.gov/lomc | Jan. 9, 2017 | 250012
Plymouth | Town of Mattapoisett (16-01-2222P) | The Honorable R. Tyler Macallister, Chairman, Town of Mattapoisett Board of Selectmen, P.O. Box 435, Mattapoisett, MA 02739. | Building Department, 16 Main Street, Mattapoisett, MA 02739 | http://www.msc.fema.gov/lomc | Feb. 17, 2017 | 255214
Mississippi: Madison | City of Ridgeland (16-04-1990P) | The Honorable Gene McGee, Mayor, City of Ridgeland, 304 Highway 51, Ridgeland, MS 39157 | City Hall, 304 Highway 51, Ridgeland, MS 39157 | http://www.msc.fema.gov/lomc | Feb. 10, 2017 | 280110
New Mexico:
Bernalillo | City of Albuquerque (16-06-0422P) | The Honorable Richard J. Berry, Mayor, City of Albuquerque, P.O. Box 1293, Albuquerque, NM 87102 | Development and Building Services Department, 600 2nd Street Northwest, Albuquerque, NM 87102 | http://www.msc.fema.gov/lomc | Feb. 16, 2017 | 350002
Bernalillo | Unincorporated areas of Bernalillo County (16-06-0422P) | The Honorable Art De La Cruz, Chairman, Bernalillo County Board of Commissioners, 1 Civic Plaza Northwest, Albuquerque, NM 87102 | Bernalillo County Public Works Division, 2400 Broadway Boulevard Southeast, Albuquerque, NM 87102 | http://www.msc.fema.gov/lomc | Feb. 16, 2017 | 350001
Dona Ana | Unincorporated areas of Dona Ana County (16-06-3875P) | The Honorable Wayne Hancock, Chairman, Dona Ana County Board of Commissioners, 845 North Motel Boulevard, Las Cruces, NM 88007 | Dona Ana County Flood Commission Department, 845 North Motel Boulevard, Las Cruces, NM 88007 | http://www.msc.fema.gov/lomc | Jan. 13, 2017 | 350012
North Carolina: Mecklenburg | Town of Pineville (16-04-3132P) | The Honorable John Edwards, Mayor, Town of Pineville, P.O. Box 249, Pineville, NC 28134 | Town Hall, 200 Dover Street, Pineville, NC 28134 | http://www.msc.fema.gov/lomc | Feb. 23, 2017 | 370160
North Dakota: Burleigh | City of Bismarck (16-08-0336P) | The Honorable Mike Seminary, Mayor, City of Bismarck, 221 North 5th Street, Bismarck, ND 58506 | City Hall, 221 North 5th Street, Bismarck, ND 58506 | http://www.msc.fema.gov/lomc | Feb. 10, 2017 | 380149
Oklahoma:
Oklahoma | City of Oklahoma City (16-06-2147P) | The Honorable Mick Cornett, Mayor, City of Oklahoma City, 200 North Walker Avenue, Oklahoma City, OK 73102 | Public Works Department, 420 West Main Street, Oklahoma City, OK 73102 | http://www.msc.fema.gov/lomc | Feb. 22, 2017 | 405378
Payne | City of Perkins (16-06-2777P) | The Honorable Jason Shilling, Mayor, City of Perkins, P.O. Box 9, Perkins, OK 74059 | Floodplain Department, 110 North Main Street, Perkins, OK 74059 | http://www.msc.fema.gov/lomc | Jan. 27, 2017 | 400431
Payne | Unincorporated areas of Payne County (16-06-2777P) | The Honorable Kent Bradley, Chairman, Payne County Board of Commissioners, 506 Expo Circle South, Stillwater, OK 74074 | Payne County Administrative Building, 315 West 6th Street, Suite 203, Stillwater, OK 74074 | http://www.msc.fema.gov/lomc | Jan. 27, 2017 | 400493
Pottawatomie | City of Shawnee (16-06-2100P) | Mr. Justin Erickson, Manager, City of Shawnee, P.O. Box 1448, Shawnee, OK 74801 | City Hall, 16 West 9th Street, Shawnee, OK 74801 | http://www.msc.fema.gov/lomc | Feb. 15, 2017 | 400178
Pennsylvania: Franklin | Borough of Chambersburg (16-03-0980P) | The Honorable Allen B. Coffman, President, Borough of Chambersburg Council, 100 South 2nd Street, Chambersburg, PA 17201 | Borough Hall, 100 South 2nd Street, Chambersburg, PA 17201 | http://www.msc.fema.gov/lomc | Feb. 3, 2017 | 420469
South Dakota:
Aurora | City of Plankinton (16-08-0366P) | The Honorable Joe Staller, Mayor, City of Plankinton, P.O. Box 517, Plankinton, SD 57368 | City Hall, 102 South Main Street, Plankinton, SD 57368 | http://www.msc.fema.gov/lomc | Feb. 3, 2017 | 460001
Aurora | Unincorporated areas of Aurora County (16-08-0366P) | The Honorable Jeff Sauvage, Chairman, Aurora County Commission, 401 North Main Street, Plankinton, SD 57368 | Aurora County Courthouse, 401 North Main Street, Plankinton, SD 57368 | http://www.msc.fema.gov/lomc | Feb. 3, 2017 | 460293
Texas:
Burnet | Unincorporated areas of Burnet County (16-06-1135P) | The Honorable James Oakley, Burnet County Judge, 220 South Pierce Street, Burnet, TX 78611 | Burnet County Environmental Services Department, 133 East Jackson Street, Burnet, TX 78611 | http://www.msc.fema.gov/lomc | Feb. 13, 2017 | 481209
Collin | City of Wylie (16-06-0594P) | The Honorable Eric Hogue, Mayor, City of Wylie, 300 Country Club Road, Building 100, Wylie, TX 75098 | City Hall, 300 Country Club Road, Building 100, Wylie, TX 75098 | http://www.msc.fema.gov/lomc | Feb. 9, 2017 | 480759
Collin | Town of Prosper (16-06-3608P) | The Honorable Ray Smith, Mayor, Town of Prosper, P.O. Box 307, Prosper, TX 75078 | Engineering Services Department, 407 East 1st Street, Prosper, TX 75078 | http://www.msc.fema.gov/lomc | Feb. 16, 2017 | 480141
Dallas | City of Irving (16-06-2472P) | The Honorable Beth Van Duyne, Mayor, City of Irving, 825 West Irving Boulevard, Irving, TX 75060 | Capital Improvement Program Department, Engineering Section, 825 West Irving Boulevard, Irving, TX 75060 | http://www.msc.fema.gov/lomc | Feb. 21, 2017 | 480180
Fort Bend | City of Katy (16-06-1376P) | The Honorable Fabol R. Hughes, Mayor, City of Katy, P.O. Box 617, Katy, TX 77493 | Public Works Department, 901 Avenue C, Katy, TX 77493 | http://www.msc.fema.gov/lomc | Feb. 14, 2017 | 480301
Fort Bend | Unincorporated areas of Fort Bend County (16-06-1376P) | The Honorable Robert Hebert, Fort Bend County Judge, 401 Jackson Street, Richmond, TX 77469 | Fort Bend County Engineering Department, 301 Jackson Street, Richmond, TX 77469 | http://www.msc.fema.gov/lomc | Feb. 14, 2017 | 480228
Fort Bend | Willow Fork Drainage District (16-06-1376P) | The Honorable Richard Ward, President, Willow Fork Drainage District, Board of Directors, 3200 Southwest Freeway, Suite 2600, Houston, TX 77027 | AECOM, 5444 Westheimer Road, Suite 400, Houston, TX 77027 | http://www.msc.fema.gov/lomc | Feb. 14, 2017 | 481603
Harris | City of Houston (16-06-0816P) | The Honorable Sylvester Turner, Mayor, City of Houston, P.O. Box 1562, Houston, TX 77251 | Floodplain Management Department, 1002 Washington Avenue, 3rd Floor, Houston, TX 77002 | http://www.msc.fema.gov/lomc | Jan. 20, 2017 | 480296
Harris | Unincorporated areas of Harris County (16-06-0816P) | The Honorable Edward M. Emmett, Harris County Judge, 1001 Preston Street, Suite 911, Houston, TX 77002 | Harris County Permit Office, 10555 Northwest Freeway, Suite 120, Houston, TX 77092 | http://www.msc.fema.gov/lomc | Jan. 20, 2017 | 480287
Montgomery | City of Conroe (16-06-1340P) | The Honorable Toby Powell, Mayor, City of Conroe, P.O. Box 3066, Conroe, TX 77305 | Department of Public Works, 300 West Davis Street, Conroe, TX 77301 | http://www.msc.fema.gov/lomc | Feb 17, 2017 | 480484
Montgomery | City of Conroe (16-06-1603P) | The Honorable Toby Powell, Mayor, City of Conroe, P.O. Box 3066, Conroe, TX 77305 | Department of Public Works, 300 West Davis Street, Conroe, TX 77301 | http://www.msc.fema.gov/lomc | Jan. 11, 2017 | 480484
Travis | City of Pflugerville (16-06-1416P) | The Honorable Jeff Coleman, Mayor, City of Pflugerville, P.O. Box 589, Pflugerville, TX 78691 | Development Services Department, 201-B East Pecan Street, Pflugerville, TX 78660 | http://www.msc.fema.gov/lomc | Feb. 21, 2017 | 481028
Travis | Unincorporated areas of Travis County (16-06-1416P) | The Honorable Sarah Eckhardt, Travis County Judge, P.O. Box 1748, Austin, TX 78767 | Travis County Transportation and Natural Resources Department, 700 Lavaca Street, Austin, TX 78701 | http://www.msc.fema.gov/lomc | Feb. 21, 2017 | 481026
Williamson | Unincorporated areas of Williamson County (16-06-1135P) | The Honorable Dan A. Gattis, Williamson County Judge, 710 South Main Street, Suite 101, Georgetown, TX 78626 | Williamson County Department of Infrastructure, 3151 Southeast Inner Loop, Suite B, Georgetown, TX 78626 | http://www.msc.fema.gov/lomc | Feb. 13, 2017 | 481079
Utah: Iron | City of Cedar City (16-08-0339P) | The Honorable Maile Wilson, Mayor, City of Cedar City, 10 North Main Street, Cedar City, UT 84720 | City Hall, 10 North Main Street, Cedar City, UT 84720 | http://www.msc.fema.gov/lomc | Jan. 5, 2017 | 490074
Virginia:
Albemarle | Unincorporated areas of Albemarle County (16-03-1207P) | Mr. Thomas C. Foley, Albemarle County Executive, 401 McIntire Road, Charlottesville, VA, 22902 | Albemarle County Community Development/Engineering Department, 401 McIntire Road, Charlottesville, VA, 22902 | http://www.msc.fema.gov/lomc | Feb. 6, 2017 | 510006
Independent City | City of Charlottesville (16-03-1207P) | Mr. Maurice Jones, Manager, City of Charlottesville, P.O. Box 911, Charlottesville, VA 22902 | Neighborhood Development Services, 610 East Market Street, Charlottesville, VA 22902 | http://www.msc.fema.gov/lomc | Feb. 6, 2017 | 510033

[FR Doc. 2017-01302 Filed 1-18-17; 8:45 am]

BILLING CODE 9110-12-P